NATIONAL AERONAUTICS AND SPACE ADMINISTRATION

14 CFR Part 1201

[Document No.: NASA-2014-0004]

RIN 2700-AD88

Statement of Organization and General Information

AGENCY: National Aeronautics and Space Administration.

ACTION: Direct final rule.

SUMMARY: This direct final rule makes nonsubstantive changes by removing language related to general information on NASA's organizations because the most current information is maintained in other regulations and on NASA's Organization Structure Web site. Therefore, this regulation will be streamlined to make reference to those locations to ensure that the public is provided with the most current information accessible on NASA. The revisions to this rule is part of NASA's retrospective plan under EO 13563 completed in August 2011. NASA's full plan can be accessed on the Agency's open government Web site at http://www.nasa.gov/open/.

DATES: This direct final rule is effective on June 2, 2014. Comments due on or before May 2, 2014. If adverse comments are received, NASA will publish a timely withdrawal of the rule in the Federal Register.

ADDRESSES: Comments must be identified with RINs 2700-AD88 and may be sent to NASA via the Federal E-Rulemaking Portal: http://www.regulations.gov. Follow the online instructions for submitting comments. Please note that NASA will post all comments on the Internet with changes, including any personal information provided.

FOR FURTHER INFORMATION CONTACT: Dorothy Frederick, 202-358-1188.

SUPPLEMENTARY INFORMATION:

Direct Final Rule and Significant Adverse Comments

NASA has determined this rulemaking meets the criteria for a direct final rule because it involves clarifications, updating, and nonsubstantive changes to existing regulations. NASA does not anticipate this direct final rule will result in major changes to its organizational structure. However, if NASA receives significant adverse comments, NASA will withdraw this final rule by publishing a note in the Federal Register in order to revisit the commented-on language. In determining whether a comment necessitates withdrawal of this final rule, NASA will consider whether it warrants a substantive response in a notice and comment process.

Background

NASA will update appropriate sections of this rule in order to provide information that is as current as possible and to provide Internet addresses that will provide the public with current, relevant data at any given time. These changes will ensure that NASA is in compliance with 5 U.S.C. 552 (a)(1) (A), Public information, agency rules, opinions, orders, records, and proceedings, as follows:

(a) Each agency shall make available to the public information as follows:

(1) Each agency shall separately state and currently publish in the Federal Register for the guidance of the public—

(A) descriptions of its central and field organization and the established places at which, the employees (and in the case of a uniformed service, the members) from whom, and the methods whereby, the public may obtain information, make submittals or requests, or obtain decisions.

Statutory Authority

5 U.S.C. 552 (a)(1) (A).

Regulatory Analysis

Executive Order 12866, Regulatory Planning and Review and Executive Order 13563, Improving Regulation and Regulation Review

Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been designated as “not significant” under section 3(f) of Executive Order 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule updates section of the CFR to align with Federal guidelines and does not have a significant economic impact on a substantial number of small entities.

Review Under the Paperwork Reduction Act

This direct final rule does not contain any information collection requirements subject to the Paperwork Reduction Act of 1995 (44 U.S.C. 3501 et seq.).

Review Under Executive Order of 13132

Executive Order 13132, “Federalism,” 64 FR 43255 (August 4, 1999) requires regulations be reviewed for Federalism effects on the institutional interest of states and local governments, and, if the effects are sufficiently substantial, preparation of the Federal assessment is required to assist senior policy makers. The amendments will not have any substantial direct effects on state and local governments within the meaning of the Executive Order. Therefore, no Federalism assessment is required.

List of Subjects in 14 CFR Part 1201

Boards and committees, Organization.

Accordingly, 14 CFR part 1201 is amended as follows:

PART 1201—STATEMENT OF ORGANIZATION AND GENERAL INFORMATION

1. The authority citation for part 1201 is revised to read as follows:

Authority: 51 U.S.C. 20112(h).

Subpart 1—Introduction

§ 1201.100 [Amended]

2. Section 1201.100 is amended by removing the words “of 1958,” and by removing the parenthesized citation “(72 Stat. 426, 42 U.S.C. 2451 et seq.)” and adding in its place “(51 U.S.C. 20111).”

Subpart 2—Organization

3. Section 1201.200 is revised to read as follows:

§ 1201.200 General.

NASA's basic organization consists of the Headquarters, nine field Centers, the Jet Propulsion Laboratory (a Federally Funded Research and Development Center), and several component installations which report to Center Directors. Responsibility for overall planning, coordination, and control of NASA programs is vested in NASA Headquarters located in Washington, DC. For additional information, visit http://www.nasa.gov/about/org_index.html.

Subpart 3—Boards and Committees

4. Section 1201.300 is revised to read as follows:

§ 1201.300 Boards and committees.

(a) NASA's Contract Adjustment Board (CAB) and Inventions and Contributions Board (ICB) were established as part of the permanent organization structure of NASA. Charters for both Boards are set forth in part 1209 of this chapter. Procedures for the CAB are set out in 48 CFR part 1850, and procedures for the ICB are set out in 14 CFR parts 1240 and 1245.

(b) The Armed Services Board of Contract Appeals (ASBCA) is a neutral, independent forum whose primary function is to hear and decide post-award contract disputes between government contractors and those entities with whom the ASBCA has entered into agreement to provide services (NASA is one of those entities). The ASBCA functions in accordance with the Contract Disputes Act (41 U.S.C. 7101-7109), its Charter, or other remedy-granting provisions. Information about the ASBCA can be obtained by mail at ASBCA, Skyline 6, Suite 700, 5109 Leesburg Pike, Falls Church, Virginia 22041-3208, by phone at 703-681-8500, or from the Web at www.asbca.mil.

Subpart 4—[Removed and Reserved]

5. Remove and reserve subpart 4.

Charles F. Bolden, Jr.
Administrator.

[FR Doc. 2014-07328 Filed 4-1-14; 8:45 am]

BILLING CODE P